DEPARTMENT OF HEALTH AND HUMAN SERVICES

National Institutes of Health

National Institute of Dental & Craniofacial Research; Notice of Closed Meetings

Pursuant to section 10(d) of the Federal Advisory Committee Act as amended (5 U.S.C. Appendix 2), notice is here by given of the following meetings.

The meetings will be closed to the public in accordance with the provisions set forth in sections 552b(c)(4) and 552b(c)(6), Title 5 U.S.C., as amended. The grant applicators Aden the discussions could disclose confidential trade secrets or commercial property such as patentable material, and personal information concerning individuals associated with the grant applications, the disclosure of which would constitute a clearly unwarranted invasion of personal privacy.

Name of Committee: National Institute of Dental and Cranifiofacial Research Special Emphasis Panel, 06-78, Review R21s, PAR05-020.

Date: May 10, 2006.

Time: 2 p.m. to 4 p.m.

Agenda: To review and evaluate grant applications.

Place: National Institutes of Health, Natcher Building, 45 Center Drive, Bethesda, MD 20892, (Telephone Conference Call).

Contact Person: Mary Kelly, Scientific Review Specialist, National Institute of Dental & Crainofacial Res., 45 Center Drive, Natcher Bldg., RM 4AN38J, Bethesda, MD 20892-6402, (301) 594-4809, mary_kelly@nih.gov.

Name of Committee: National Institute of Dental and Cranifiofacial Research Special Emphasis Panel, 06-80, Review R21s.

Date: May 23, 2006.

Time: 1:30 p.m. 2:30 p.m.

Agenda: To review and evaluate grant applications.

Place: National Institutes of Health, Natcher Building, 45 Center Drive, Bethesda, MD 20892, (Telephone Conference Call).

Contact Person: Sooyoun (Sonia) Kim, MS, Associate SRA, 45 Center Dr, 4An 32ZB, Division of Extramural Research, National Inst. of Dental & Crainofacial Research, National Institute of Health, Bethesda, MD 20892, (301) 594-4827, kims@email.nidr.nih.gov.

(Catalogue of Federal Domestic Assistance Program Nos. 93.121, Oral Diseases and Disorders Research, National Institute of Health, HHS)

Dated: April 14, 2006.
Anna Snouffer,
Acting Director, Office of Federal Advisory Committee Policy.

[FR Doc. 06-3878 Filed 4-24-06; 8:45am]

BILLING CODE 4140-01-M